DEPARTMENT OF THE INTERIOR

Fish and Wildlife Service

Notice of Intent To Prepare a Comprehensive Conservation Plan and Associated National Environmental Policy Act Document

AGENCY: Fish and Wildlife Service, Interior.

ACTION: Notice of Intent to Prepare a Comprehensive Conservation Plan and Associated National Environmental Policy Act Document.

SUMMARY: This Notice of Intent advises the public that the Fish and Wildlife Service (Service) intends to gather information necessary to prepare a Comprehensive Conservation Plan (CCP) and environmental document (environmental assessment or environmental impact statement) for the South San Diego Bay Unit of the San Diego National Wildlife Refuge and Sweetwater Marsh National Wildlife Refuge. The Service is furnishing this notice in compliance with the Service CCP policy and the National Environmental Policy Act (NEPA) and its implementing regulations.

The purpose of this notice is to (1) initiate the public involvement and scoping for the CCP/NEPA planning and decision-making process, (2) to advise other agencies and the public of our intentions, (3) to solicit suggestions and information on the scope of issues to be addressed in the environmental document, and (4) to announce that public workshops/open houses will be held to present information and receive public input.

DATES: Written comments should be received by July 31, 2000. Public open houses will be held on:

1. July 10, 2000, 7:00 p.m. to 9:00 p.m., Imperial Beach, CA.

2. July 11, 2000, 1:30 p.m. to 3:30 p.m., Chula Vista, CA.

ADDRESSES: Mail comments concerning this notice and requests to be added to the mailing list to Mendel Stewart, Project Leader, San Diego Refuge Complex, Fish and Wildlife Service, 2722 Loker Ave. W, Suite D, Carlsbad, CA 92008.

The open house locations are:

1. Imperial Beach—Marina Vista Center, 1075 8th Street, Imperial Beach, CA 91932

2. Chula Vista—Chula Vista Nature Center (Auditorium), 1000 Gunpowder Point Drive, Chula Vista, CA 91910

FOR FURTHER INFORMATION CONTACT: Victoria Touchstone, Project Planner, at (619) 691-1185.

SUPPLEMENTARY INFORMATION:

Background

By Federal law, all lands within the National Wildlife Refuge System are to be managed in accordance with an approved CCP. The purpose of a CCP is to describe the desired future conditions of the refuge and provide long-range guidance and management direction to accomplish the purposes of the refuge, contribute to the mission of the Refuge System and meet other relevant mandates. Several other goals of the CCP process include: (1) Conducting refuge planning in accordance with an ecosystem approach, (2) providing a public forum for the public to comment on the type, extent and compatibility of wildlife-dependent recreational uses within the refuge area, and (3) ensuring public involvement in refuge management decisions by providing a process for effective coordination, interaction, and cooperation with affected parties.

The CCP will address habitat and wildlife management, habitat protection and possible restoration, wildlife-dependent recreational uses, and adjacency issues that could affect the Refuge goals and management objectives that will be developed during this process. Public input into this planning process is essential. The Service will solicit comments from the public via noticed meetings, open houses, and written comments. Special mailings, newspaper articles, and announcements will inform people in the general area of the time and place of such opportunities for public input into the CCP.

Refuge Information

The South San Diego Unit of the San Diego NWR, located at the southern end of San Diego Bay, supports tens of thousands of migrating shorebirds, nesting seabirds, wintering sea ducks and other migratory waterfowl. Included within the refuge boundaries is a salt production operation that maintains about 1,050 acres of salt ponds. These ponds provide large amounts of food in the form of fish, brine shrimp and brine flies, all of which are particularly important for shorebirds and seabirds. This refuge provides nesting, feeding, and resting habitat for six endangered bird species, and feeding habitat for one listed sea turtle species.

The Sweetwater Marsh NWR, located in the southeast end of San Diego Bay, includes 316 acres of salt marsh and coastal uplands. This refuge provides habitat for two federally endangered species of bird (California Least Tern and Light-footed Clapper Rail), one federally endangered plant species (salt marsh bird's beak), the Belding's Savannah Sparrow (a State of California endangered bird species), and the Western Snowy Plover, a federally threatened species of bird. Sweetwater Marsh functions as an essential link between Multiple Species Conservation Program wildlands, the South San Diego Bay Unit, and the Tijuana Slough NWR in Imperial Beach.

Review of the CCP and associated environmental document will be conducted in accordance with the requirements of the National Environmental Policy Act (NEPA) of 1969, as amended (42 U.S.C. 4321 et seq.), NEPA Regulations (40 CFR 1500-1509), other appropriate Federal laws and regulations, including the National Wildlife Refuge System Improvements Act of 1997, Executive Order 12996, and Service policies and procedures for compliance with those regulations. It is estimated that a draft CCP and NEPA document will be made available for public review in October 2001.

Dated: June 16, 2000.
Elizabeth H. Stevens,
Acting Manager, California/Nevada Operations, Sacramento, California.

[FR Doc. 00-15891 Filed 6-22-00; 8:45 am]

BILLING CODE 4310-55-P